PATENT AND TRADEMARK OFFICE

Submission for OMB Review; Comment Request

The United States Patent and Trademark Office (USPTO) has submitted to the Office of Management and Budget (OMB) for clearance the following proposal for collection of information under the provisions of the Paperwork Reduction Act (44 U.S.C. Chapter 35).

AGENCY: United States Patent and Trademark Office (USPTO).

Title: Admittance to Practice and Roster of Registered Patent Attorneys and Agents Admitted to Practice Before the United States Patent and Trademark Office (USPTO).

Form Number(s): PTO-158, PTO-158A, PTO-275, PTO-107A, PTO-1209, PTO-2126.

Agency Approval Number: 0651-0012.

Type of Request: Revision of a currently approved collection.

Burden: 58,745 hours annually.

Number of Respondents: 64,142 responses per year.

Avg. Hours Per Response: The USPTO estimates that it will take the public approximately 30 minutes (0.5 hours) to complete either an application or registration to practice before the USPTO, or an application for a foreign resident to practice before the USPTO and, depending upon the complexity of the situation, to gather, prepare and submit the application. It is estimated to take 20 minutes (0.33 hours) to complete undertakings under 37 CFR 10.10(b); 10 minutes (0.17 hours) to complete data sheets; 5 minutes (0.08 hours) to complete the oath or affirmation, and the request for a paper copy of the continuing training program and furnished narrative; 45 minutes (0.75 hours) to complete the petition for waiver of regulations; and 90 minutes (1.5 hours) to complete the written request for reconsideration of disapproval notice of application and the petition for reinstatement to practice. It is estimated to take 2 hours and 10 minutes (2.17 hours) for the annual practitioner registration/continuing training program—ten minutes (0.17 hours) to fill out the form and an average of 2 hours (2.0 hours) to complete the continuing training examination online. It is estimated to take 2 hours and 5 minutes (2.08 hours) for the paper-based version of the annual practitioner registration/continuing training program-five minutes (0.08 hours) to request the materials and an average of 2 hours (2.0 hours) to complete the continuing training examination on paper. These times include time to gather the necessary information, prepare, and submit the forms and requirements in this collection.

Needs and Uses: This information is required by 35 U.S.C. 2(b)(2)(d), administered by the USPTO through 37 CFR 10.5-10.19. The information is used by the Director of the Office of Enrollment and Discipline (OED) to determine if the applicant for registration is of good moral character and repute; has the necessary legal, scientific, and technical qualifications; and is otherwise competent to advise and assist applicants in the presentation and prosecution of applications for patent grants.

Affected Public: Individuals or households; business or other for-profit; the Federal Government; and State, Local or Tribal Governments.

Frequency: On occasion.

Respondent's Obligation: Required to obtain or retain benefits.

OMB Desk Officer: David Rostker, (202) 395-3897.

Copies of the above information collection proposal can be obtained by calling or writing Susan K. Brown, Records Officer, Office of Data Architecture and Services, Data Administration Division, (703) 308-7400, USPTO, Suite 310, 2231 Crystal Drive, Washington, DC 20231, or by e-mail at susan.brown@uspto.gov.

Written comments and recommendations for the proposed information collection should be sent on or before May 9, 2003 to David Rostker, OMB Desk Officer, Room 10202, New Executive Office Building, Washington, DC 20503.

Dated: April 1, 2003.
Susan K. Brown,
Records Officer, USPTO, Office of Data Architecture and Services, Data Administration Division.

[FR Doc. 03-8602 Filed 4-8-03; 8:45 am]

BILLING CODE 3510-16-P